FEDERAL COMMUNICATIONS COMMISSION

Notice of Public Information Collection(s) Being Reviewed by the Federal Communications Commission, Comments Requested

September 4, 2003.

SUMMARY: The Federal Communications Commission, as part of its continuing effort to reduce paperwork burden invites the general public and other Federal agencies to take this opportunity to comment on the following information collection(s), as required by the Paperwork Reduction Act (PRA) of 1995, Pub. L. 104-13. An agency may not conduct or sponsor a collection of information unless it displays a currently valid control number. No person shall be subject to any penalty for failing to comply with a collection of information subject to the Paperwork Reduction Act that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before November 12, 2003. If you anticipate that you will be submitting comments, but find it difficult to do so within the period of time allowed by this notice, you should advise the contact listed below as soon as possible.

ADDRESSES: Direct all Paperwork Reduction Act (PRA) comments to Judith B. Herman, Federal Communications Commission, Room 1-C804, 445 12th Street, SW., Washington, DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0697.

Title: Part 22 and Part 90 of the Commission's Rules to Facilitate Future Development of Paging Systems.

Form No.: N/A.

Type of Review: Revision of a currently approved collection.

Respondents: Individuals or households, business or other for-profit, not-for-profit institutions, and state, local or tribal government.

Number of Respondents: 3,600.

Estimated Time Per Response: 1.25-2 hours.

Frequency of Response: On occasion reporting requirement, and recordkeeping requirement.

Total Annual Burden: 15,750 hours.

Total Annual Cost: $750,000.

Needs and Uses: This Commission is consolidating two information collections into one combined collection. They are 3060-0697 and 3060-0765. Both of these collections contain requirements in Parts 22 and 90 to facilitate future development of paging systems. The Commission will retain 3060-0697 as the active OMB control number and cancel 3060-0765 after OMB approves the revised request. This collection is necessary to (1) lessen the administrative burden of licensees; (2) determine the partitioned service areas and geographic area licensee's remaining service area of parties to an agreement; (3) determine whether geographic area licensee's and parties to agreements have met the applicable coverage requirements for their service areas; (4) to determine whether the applicant is eligible to receive bidding credit as a small business; (5) determine the real parties interest of any joint bidding agreements; (6) determine the appropriate unjust enrichment compensation to be remitted to the government; and (7) establish a regulatory scheme for the common carrier paging (CCP) and private carrier paging (PCP) services which will promote efficient licensing and competition in the commercial mobile radio marketplace.

OMB Control No.: 3060-0865.

Title: Wireless Telecommunications Bureau Universal Licensing System Recordkeeping and Third Party Disclosure Requirements.

Form No.: N/A.

Type of Review: Extension of a currently approved collection.

Respondents: Individuals or households, business or other for-profit, not-for-profit institutions and state, local or tribal government.

Number of Respondents: 62,787.

Estimated Time Per Response: .166-4 hours.

Frequency of Response: On occasion reporting requirement, recordkeeping requirement and third party disclosure requirement.

Total Annual Burden: 77,164 hours.

Total Annual Cost: N/A.

Needs and Uses: The Universal Licensing System (ULS) establishes streamlined set of rules that minimizes filing requirements, eliminates redundant or unnecessary submission requirements and assures ongoing collection of reliable licensing and ownership data. The recordkeeping and third party disclosure requirements contained in this collection are a result of the elimination of a number of filing requirements. The ULS forms contain a number of certifications. However, applicants must maintain records to document compliance with the requirements for which they provide certifications. In some instances, third party coordinations are required. The Commission is seeking extension of this information collection (no change) in order to obtain the full three year clearance.

OMB Control No.: 3060-0132.

Title: Supplemental Information—72-76 MHz Operational Fixed Stations.

Form No.: FCC Form 1068-A.

Type of Review: Revision of a currently approved collection.

Respondents: Individuals or households, business or other for-profit, not-for-profit institutions and state, local or tribal government.

Number of Respondents: 300.

Estimated Time Per Response: .50 hours.

Frequency of Response: On occasion reporting requirement.

Total Annual Burden: 150 hours.

Total Annual Cost: $4,500.

Needs and Uses: FCC rules require that the applicant agrees to eliminate any harmful interference caused by the operation to TV reception on either channel 4 or 5 that might develop. This form is required by the Communications Act of 1934, as amended; International Treaties and FCC rules (47 CFR Section 90.257). The form is being revised to include the FCC Registration Number information as well as updated information on the Privacy Act statement. FCC staff will use the data to determine if the information submitted will meet FCC rule requirements for the assignment of frequencies in the 72-76 MHz band.

OMB Control No.: 3060-0853.

Title: Receipt of Service Confirmation Form; Adjustment of Funding Commitment; and Certification by Administrative Authority to Billed Entity of Compliance with the Children's Internet Protection Act—Universal Service for Schools and Libraries.

Form No.: FCC Forms 479, 486, 486-T, and 500.

Type of Review: Revision of a currently approved collection.

Respondents: Business or other for-profit and not-for-profit institutions.

Number of Respondents: 40,000.

Estimated Time Per Response: 1.5-2 hours.

Frequency of Response: Annual reporting requirement and third party disclosure requirement.

Total Annual Burden: 75,000 hours.

Total Annual Cost: N/A.

Needs and Uses: Following a district court decision that portions of the Children's Internet Protection Act (CIPA) were unconstitutional, the Commission modified FCC Forms 479 and 486 to remove certain language from the certifications for libraries (language requiring compliance with the parts of CIPA the district court found unconstitutional). The Supreme Court reversed the district court decision and the Commission must revise the forms to enable libraries to certify their compliance with CIPA. Specifically, the Commission has made a few small changes to the forms in item 6.b and 11 of the Form 486 and item 6 of the Form 479, and will add new FCC Form 486-T for libraries unwilling to make a CIPA certification for funding year 2003. FCC Form 500 remains unchanged. Additionally, the Commission is requesting contact information to conform to the contact information requested in other Schools and Libraries Universal Service forms.

OMB Control No.: 3060-0292.

Title: Part 69—Access Charges.

Form No.: N/A.

Type of Review: Extension of a currently approved collection.

Respondents: Business or other for-profit.

Number of Respondents: 1,485 respondents; 5,832 responses.

Estimated Time Per Response: .75-5 hours.

Frequency of Response: Annual, monthly, semi-annual, biennial and on occasion reporting requirements and third party disclosure requirement.

Total Annual Burden: 27,702 hours.

Total Annual Cost: N/A.

Needs and Uses: Part 69 of the Commission's rules and regulations establishes the rules for access charges for interstate or foreign access provided by telephone companies. Local telephone companies and states are required to submit information to the Commission and/or the National Exchange Carrier Association (NECA). The information is used to compute charges in tariffs for access service (or origination and termination) and to compute revenue pool distributions. The Commission will submit this information collection to OMB as an extension (no change) in order to obtain the full three year clearance.

OMB Control No.: 3060-0816.

Title: Local Competition and Broadband Reporting, CC Docket No. 99-301.

Form No.: FCC Form 477.

Type of Review: Extension of a currently approved collection.

Respondents: Business or other for-profit.

Number of Respondents: 255 respondents; 510 responses.

Estimated Time Per Response: 59 hours.

Frequency of Response: Semi-annual reporting requirement.

Total Annual Burden: 29,924 hours.

Total Annual Cost: N/A.

Needs and Uses: FCC Form 477 seeks together information on the development of local competition and deployment of broadband service also known as advanced telecommunications services. The data is necessary to evaluate the status of developing competition in local exchange telecommunications markets and to evaluate the status of broadband deployment. The information will be used by Commission staff to advise the Commission about the efficiency of Commission policies and rules adopted to implement the Telecommunications Act of 1996.

Federal Communications Commission.
Marlene H. Dortch,
Secretary.

[FR Doc. 03-23312 Filed 9-11-03; 8:45 am]

BILLING CODE 6712-01-P